DEPARTMENT OF EDUCATION

Privacy Act of 1974; System of Records—Impact Evaluation of Math Professional Development

AGENCY: Institute of Education Sciences, Department of Education.

ACTION: Notice of a new system of records.

SUMMARY: In accordance with the Privacy Act of 1974, as amended (Privacy Act), the Department of Education (Department) publishes this notice of a new system of records entitled “Impact Evaluation of Math Professional Development” (18-13-35). The National Center for Education Evaluation and Regional Assistance at the Department's Institute of Education Sciences awarded a contract in September 2012 to American Institutes for Research to conduct an impact evaluation of an intensive, content-focused math professional development (PD) program on teacher knowledge, teacher practices, and student achievement. The system of records will contain records on approximately 200 fourth-grade teachers and their students in 6 school districts and will be used to conduct the study.

DATES: Submit your comments on this proposed new system of records on or before August 12, 2013.

The Department filed a report describing the new system of records covered by this notice with the Chair of the Senate Committee on Homeland Security and Governmental Affairs, the Chair of the House Committee on Oversight and Government Reform, and the Administrator of the Office of Information and Regulatory Affairs, Office of Management and Budget (OMB) on June 25, 2013. This system of records will become effective at the later date of—(1) the expiration of the 40-day period for OMB review on August 4, 2013, unless OMB waives 10 days of the 40-day review period for compelling reasons shown by the Department, or (2) August 12, 2013, unless the system of records needs to be changed as a result of public comment or OMB review. The Department will publish any changes to the system of records or routine uses that result from public comment or OMB review.

ADDRESSES: Address all comments about the proposed system of records to Dr. Audrey Pendleton, Associate Commissioner, Evaluation Division, National Center for Education Evaluation and Regional Assistance, Institute of Education Sciences, U.S. Department of Education, 555 New Jersey Avenue NW., Room 502D, Washington, DC 20208-0001. Telephone: (202) 208-7078. If you prefer to send your comments through the Internet, use the following address: comments@ed.gov. You must include the term “Impact Evaluation of Math Professional Development” in the subject line of the electronic message.

During and after the comment period, you may inspect all public comments about this notice at the Department in room 502D, 555 New Jersey Avenue NW., Washington, DC, between the hours of 8:00 a.m. and 4:30 p.m., Washington, DC time, Monday through Friday of each week except Federal holidays.

Assistance to Individuals With Disabilities in Reviewing the Rulemaking Record

On request we will provide an appropriate accommodation or auxiliary aid to an individual with a disability who needs assistance to review the comments or other documents in the public rulemaking record for this notice. If you want to schedule an appointment for this type of accommodation or auxiliary aid, please contact the person listed under FOR FURTHER INFORMATION CONTACT.

FOR FURTHER INFORMATION CONTACT: Dr. Audrey Pendleton, Associate Commissioner, Evaluation Division, National Center for Education Evaluation and Regional Assistance, Institute of Education Sciences, U.S. Department of Education, 555 New Jersey Avenue NW., Room 502D, Washington, DC 20208-0001. Telephone: (202) 208-7078.

If you use a telecommunications device for the deaf (TDD) or a text telephone (TTY), you may call the Federal Relay Service (FRS), toll free, at 1-800-877-8339. Individuals with disabilities can obtain this document in an accessible format (e.g., braille, large print, audiotape, or compact disc) on request to the contact person listed in this section.

SUPPLEMENTARY INFORMATION:

Introduction

The Privacy Act (5 U.S.C. 552a) requires the Department to publish in the Federal Register this notice of a new system of records (5 U.S.C. 552a(e)(4) and (e)(11)). The Department's regulations implementing the Privacy Act are contained in the Code of Federal Regulations (CFR) at 34 CFR part 5b.

The Privacy Act applies to records about individuals that contain individually identifying information that are retrieved by a unique identifier associated with each individual, such as a name or social security number. The information about each individual is called a “record,” and the system, whether manual or computer based, is called a “system of records.”

The Privacy Act requires the Department to publish a system of records notice in the Federal Register upon establishment or revision of the system of records.

Whenever the Department publishes a new system of records or makes a significant change to an established system of records, the Department is also required to submit reports to the Administrator of the Office of Information and Regulatory Affairs at OMB, the Chair of the Senate Committee on Homeland Security and Governmental Affairs, and the Chair of the House of Representatives Committee on Oversight and Government Reform. These reports are intended to permit an evaluation of the probable effect of the proposal on the privacy rights of individuals.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: June 25, 2013.
John Q. Easton,
Director, Institute of Education Sciences.

For the reasons discussed in the preamble, the Director of the Institute of Education Sciences, U.S. Department of Education (Department) publishes a notice of a new system of records to read as follows:

SYSTEM NUMBER:

18-13-35

SYSTEM NAME:

Impact Evaluation of Math Professional Development.

SECURITY CLASSIFICATION:

None.

SYSTEM LOCATIONS:

(1) Evaluation Division, National Center for Education Evaluation and Regional Assistance, Institute of Education Sciences (IES), U.S. Department of Education, 555 New Jersey Avenue NW., Room 502D, Washington, DC 20208-0001.

(2) The American Institutes for Research, 1000 Thomas Jefferson St. NW., Washington, DC 20007 (contractor).

(3) Harvard University, 1350 Massachusetts Ave., Cambridge, MA 02138 (subcontractor).

CATEGORIES OF INDIVIDUALS COVERED BY THE SYSTEM:

The system of records will contain records on approximately 200 fourth-grade teachers and their students in 6 school districts.

CATEGORIES OF RECORDS IN THE SYSTEM:

The system of records will include information about the teachers and students who are included in the study. The teacher-level information will include, but will not necessarily be limited to: Teacher IDs; names and IDs of the school and school district in which the teacher teaches; demographic information such as race, ethnicity, gender, and educational background (teaching experience, prior math coursework, college major, highest degree, professional development activities, and teacher certification status); and scores on a teacher knowledge test and classroom observation measure. The student-level information will include, but will not necessarily be limited to: Student IDs; the IDs of the student's teacher; month and year of birth; demographic information such as race, ethnicity, gender, and educational background (attendance level, grade level, free and reduced-price lunch status, English language learner status, and special education status); and assessment information and scores on mathematics State assessments and a computer-adaptive mathematics test.

AUTHORITY FOR MAINTENANCE OF THE SYSTEM:

The study is authorized under the Education Sciences Reform Act of 2002, Part D, Section 171(b)(2) (20 U.S.C. 9561(b)(2)), which authorizes the IES to “conduct evaluations of Federal education programs administered by the Secretary (and as time and resources allow, other education programs) to determine the impact of such programs (especially on student academic achievement in the core academic areas of reading, mathematics, and science).”

PURPOSE(S):

The information contained in this system of records will be used to conduct an impact evaluation of an intensive, content-focused math professional development (PD) program on teacher knowledge, teacher practices, and student achievement.

The study will address the following two research questions: (1) What is the average impact of providing teachers with a specialized professional development intervention relative to “business-as-usual” professional development on (a) teachers' content knowledge, (b) teachers' classroom practices, and (c) student achievement? (2) How is the professional development intervention implemented? What challenges were encountered during the process of implementing the intervention?

ROUTINE USES OF RECORDS MAINTAINED IN THE SYSTEM, INCLUDING CATEGORIES OF USERS AND THE PURPOSES OF SUCH USES:

The Department may disclose information contained in this system of records under the routine uses listed here without the consent of the individual if the disclosure is compatible with the purposes for which the record was collected. The Department may make these case-by-case disclosures or, if the Department has complied with the computer matching requirements of the Privacy Act of 1974, as amended (Privacy Act) (5 U.S.C. 552a), under a computer matching agreement. Any disclosure of individually identifiable information from a record in this system must also comply with the requirements of section 183 of the Education Sciences Reform Act (ESRA) (20 U.S.C. 9573), which provides confidentiality standards that apply to all collection, reporting, and publication of data by IES.

(1) Research Disclosure. The Director of IES may license confidential information from this system of records to qualified external researchers solely for the purpose of carrying out specific research that is compatible with the purpose(s) of this system of records. The researcher must maintain, under the Privacy Act and the ESRA, safeguards with respect to such records. When personally identifiable information from a student's education record will be disclosed to the researcher, under the Family Educational Rights and Privacy Act (FERPA) (20 U.S.C. 1232g), the researcher must comply with the requirements in the applicable FERPA exception to consent.

(2) Contract Disclosure. If the Department contracts with an entity to perform any function that requires disclosing records in this system to the contractor's employees, the Department may disclose the records to those employees who have received the appropriate level of security clearance from the Department. Before entering into such a contract, the Department will require the contractor to establish and maintain the safeguards required under the Privacy Act (5 U.S.C. 552a(m)) with respect to the records in the system.

DISCLOSURE TO CONSUMER REPORTING AGENCIES:

None.

POLICIES AND PRACTICES FOR STORING, RETRIEVING, ACCESSING, RETAINING, AND DISPOSING OF RECORDS IN THE SYSTEM:

STORAGE:

The Department maintains records on CD-ROM, and the contractor (American Institutes for Research) and subcontractor (Harvard University) maintain data for this system on computers and in hard copy.

RETRIEVABILITY:

Records in this system are indexed and retrieved by a unique random number assigned to each individual that is cross-referenced by the individual's unique State- or district-assigned teacher or student ID on a separate list.

SAFEGUARDS:

All physical access to the Department's site and to the sites of the Department's contractor and subcontractor, where this system of records is maintained, is controlled and monitored by security personnel. The computer system employed by the Department offers a high degree of resistance to tampering and circumvention. This security system limits data access to Department and contract staff on a need-to-know basis and controls individual users' ability to access and alter records within the system.

The contractor and subcontractor will establish a similar set of procedures at their sites to ensure confidentiality of data. The contractor and subcontractor are required to ensure that print data identifying individuals are in files physically separated from other research data and that electronic files identifying individuals are separated from other electronic research data files. The contractor and subcontractor will maintain security of the complete set of all master data files and documentation. Access to individually identifying data will be strictly controlled. At each site, all print data will be kept in locked file cabinets during non-working hours and work on hardcopy data will take place in a single room, except for data entry.

Physical security of electronic data will also be maintained. Security features that protect project data include: Password-protected accounts that authorize users to use the contractor's system but to access only specific network directories and network software; user rights and directory and file attributes that limit those who can use particular directories and files and determine how they can use them; and additional security features that the network administrators will establish for projects as needed. The Department's, contractor's, and subcontractor's employees who “maintain” (collect, maintain, use, or disseminate) data in this system must comply with the requirements of the Privacy Act and the confidentiality standards in section 183 of the ESRA (20 U.S.C. 9573).

RETENTION AND DISPOSAL:

These records are covered by a draft records schedule under development, ED 231 Research and Statistics Records. This schedule shall be submitted to the National Archives and Records Administration for review and approval when complete. Until such time as it is approved by NARA, no records shall be destroyed.

SYSTEM MANAGER AND ADDRESS:

Associate Commissioner, Evaluation Division, National Center for Education Evaluation and Regional Assistance, Institute of Education Sciences, U.S. Department of Education, 555 New Jersey Avenue NW., Room 502D, Washington, DC 20208-0001.

NOTIFICATION PROCEDURE:

If you wish to determine whether a record exists regarding you in the system of records, contact the system manager at the address listed under SYSTEM MANAGER AND ADDRESS. Your request must meet the requirements of the Department's Privacy Act regulations at 34 CFR 5b.5, including proof of identity.

RECORD ACCESS PROCEDURE:

If you wish to gain access to a record about you in this system of records, contact the system manager at the address listed under SYSTEM MANAGER AND ADDRESS. Your request must meet the requirements of the Department's Privacy Act regulations at 34 CFR 5b.5, including proof of identity.

CONTESTING RECORD PROCEDURE:

If you wish to contest the content of a record regarding you in the system of records, contact the system manager at the address listed under SYSTEM MANAGER AND ADDRESS. In addition, you must meet the requirements of the Department's Privacy Act regulations at 34 CFR 5b.7, including, specification of the particular record you are seeking to have changed, and the written justification for making such a change.

RECORD SOURCE CATEGORIES:

This system will contain records on teachers and students included in the Impact Evaluation of Math Professional Development. Data will be obtained through study data collection from teachers and students, as well as administrative records maintained by school districts.

EXEMPTIONS CLAIMED FOR THE SYSTEM:

None.

[FR Doc. 2013-16696 Filed 7-11-13; 8:45 am]

BILLING CODE 4000-01-P